DEPARTMENT OF LABOR

Employment and Training Administration

[TA-W-73,851]

Mueller Steam Specialty Formerly Known As Core Industries Including Workers Whose Unemployment Insurance (UI) Wages are Reported Through Watts Regulator, Watts Water Technologies Including On-Site Leased Workers From Staffing Alliance, Two Hawk Employment Agency and Robert Half Accountemps; St. Pauls, NC; Amended Certification Regarding Eligibility To Apply for Worker Adjustment Assistance

In accordance with section 223 of the Trade Act of 1974, as amended (“Act”), 19 U.S.C. 2273, the Department of Labor issued a Certification of Eligibility to Apply for Worker Adjustment Assistance on October 7, 2010, applicable to workers of Mueller Steam Specialty, including on-site leased workers from Staffing Alliance, Two Hawk Employment Agency and Robert Half Accountemps, St. Pauls, North Carolina. The workers produce strainers and valves. The notice was published in the Federal Register on October 25, 2010 (75 FR 65519).

At the request of the State agency, the Department reviewed the certification for workers of the subject firm.

New information shows that workers separated from employment at the St. Pauls, North Carolina location of Mueller Steam Specialty had their wages reported through two separated unemployment insurance (UI) tax accounts under the names Core Industries and Watts Regulator, Watts Water Technologies.

Accordingly, the Department is amending this certification to properly reflex this matter.

The intent of the Department's certification is to include all workers the St. Pauls, North Carolina location of Mueller Steam Specialty, formerly known as Core Industries, including workers whose unemployment Insurance (UI) wages are reported through Watts Regulator, Watts Water Technologies who were adversely affected by increased imports of strainers and valves.

The amended notice applicable to TA-W-73,851 is hereby issued as follows:

All workers of Mueller Steam Specialty, formerly known as Core Industries, including workers whose unemployment insurance (UI) wages are reported through Watts regulator, Watts Water Technologies, including on-site leased workers from Staffing Alliance, Two Hawk Employment Agency and Robert Half Accountemps, St. Pauls, North Carolina, who became totally or partially separated from employment on or after April 5, 2009, through October 7, 2012, and all workers in the group threatened with total or partial separation from employment on date of certification through two years from the date of certification, are eligible to apply for adjustment assistance under Chapter 2 of Title II of the Trade Act of 1974, as amended.

Signed in Washington, DC, this 28th day of March 2011.
Michael W. Jaffe,
Certifying Officer, Office of Trade Adjustment Assistance.

[FR Doc. 2011-8236 Filed 4-6-11; 8:45 am]

BILLING CODE 4510-FN-P